DEPARTMENT OF ENERGY

Federal Energy Regulatory Commission

Combined Notice of Filings #1

Take notice that the Commission received the following electric rate filings:

Docket Numbers: ER10-2126-003.

Applicants: Idaho Power Company.

Description: Notice of Non-Material Change in Status of Idaho Power Company.

Filed Date: 9/6/17.

Accession Number: 20170906-5029.

Comments Due: 5 p.m. ET 9/27/17.

Docket Numbers: ER16-262-001.

Applicants: Uniper Global Commodities North America LLC.

Description: Notice of Change In Status of Uniper Global Commodities North America LLC.

Filed Date: 9/6/17.

Accession Number: 20170906-5040.

Comments Due: 5 p.m. ET 9/27/17.

Docket Numbers: ER16-1456-010.

Applicants: Talen Energy Marketing, LLC.

Description: Compliance filing: Amended Compliance Filing Cancelling Reactive Tariff to be effective 12/1/2016.

Filed Date: 9/5/17.

Accession Number: 20170905-5131.

Comments Due: 5 p.m. ET 9/26/17.

Docket Numbers: ER16-2091-001.

Applicants: Idaho Power Company.

Description: Compliance filing: 2016 MBR Updated Market Power Analysis Compliance Filing ER16-2091 and EL16-114 to be effective N/A.

Filed Date: 9/6/17.

Accession Number: 20170906-5080.

Comments Due: 5 p.m. ET 9/27/17.

Docket Numbers: ER17-2146-001.

Applicants: NorthWestern Corporation.

Description: Tariff Amendment: Amendment of Pending Tariff Filing—NITSA with Project Spokane, LLC to be effective 7/27/2017.

Filed Date: 9/5/17.

Accession Number: 20170905-5094.

Comments Due: 5 p.m. ET 9/26/17.

Docket Numbers: ER17-2440-000.

Applicants: PJM Interconnection, L.L.C.

Description: § 205(d) Rate Filing: Service Agreement No. 4775, Queue No. AB1-125 & Cancellation of SA No. 4617 to be effective 8/7/2017.

Filed Date: 9/6/17.

Accession Number: 20170906-5087.

Comments Due: 5 p.m. ET 9/27/17.

Take notice that the Commission received the following qualifying facility filings:

Docket Numbers: QF16-259-001; EL16-43-000.

Applicants: Bright Light Capital, LLC.

Description: Refund Report of Bright Light Capital, LLC.

Filed Date: 9/6/17.

Accession Number: 20170906-5091.

Comments Due: 5 p.m. ET 9/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 6, 2017.
Nathaniel J. Davis, Sr.,
Deputy Secretary.

[FR Doc. 2017-19245 Filed 9-11-17; 8:45 am]

BILLING CODE 6717-01-P